DEPARTMENT OF ENERGY

Federal Energy Regulatory Commission

Combined Notice of Filings #2

Take notice that the Commission received the following electric rate filings:

Docket Numbers: ER12-1726-001.

Applicants: Michigan Electric Transmission Company, LLC.

Description: Michigan Electric Transmission Company, LLC submits tariff filing per 35: METC Certificate of Concurrence Compliance Filing to be effective 7/1/2012.

Filed Date: 7/31/12.

Accession Number: 20120731-5139.

Comments Due: 5 p.m. ET 8/21/12.

Docket Numbers: ER12-2355-000.

Applicants: Midwest Independent Transmission System Operator, Inc.

Description: MidAmerican-Geneseo SA 2459 WDS to be effective 9/1/2012.

Filed Date: 7/31/12.

Accession Number: 20120731-5036.

Comments Due: 5 p.m. ET 8/21/12.

Docket Numbers: ER12-2356-000.

Applicants: Midwest Independent Transmission System Operator, Inc.

Description: MidAmerican-MEAN-Buffalo SA 2460 to be effective 9/1/2012.

Filed Date: 7/31/12.

Accession Number: 20120731-5037.

Comments Due: 5 p.m. ET 8/21/12.

Docket Numbers: ER12-2357-000.

Applicants: Midwest Independent Transmission System Operator, Inc.

Description: MidAmerican-MEAN-Carlisle SA 2461 to be effective 9/1/2012.

Filed Date: 7/31/12.

Accession Number: 20120731-5038.

Comments Due: 5 p.m. ET 8/21/12.

Docket Numbers: ER12-2358-000.

Applicants: Midwest Independent Transmission System Operator, Inc.

Description: MidAmerican-MEAN Indianola WDS SA 2462 to be effective 9/1/2012.

Filed Date: 7/31/12.

Accession Number: 20120731-5045.

Comments Due: 5 p.m. ET 8/21/12.

Docket Numbers: ER12-2359-000.

Applicants: Midwest Independent Transmission System Operator, Inc.

Description: MidAm-MEAN Rockford WDS SA 2463 to be effective 9/1/2012.

Filed Date: 7/31/12.

Accession Number: 20120731-5046.

Comments Due: 5 p.m. ET 8/21/12.

Docket Numbers: ER12-2360-000.

Applicants: Midwest Independent Transmission System Operator, Inc.

Description: MidAmerican-MEAN Wall Lake SA 2464 WDS to be effective 9/1/2012.

Filed Date: 7/31/12.

Accession Number: 20120731-5048.

Comments Due: 5 p.m. ET 8/21/12.

Docket Numbers: ER12-2361-000.

Applicants: Midwest Independent Transmission System Operator, Inc.

Description: MidAmerican-MEAN Fonda SA 2203 WDS to be effective 9/1/2012.

Filed Date: 7/31/12.

Accession Number: 20120731-5049.

Comments Due: 5 p.m. ET 8/21/12.

Docket Numbers: ER12-2362-000.

Applicants: Midwest Independent Transmission System Operator, Inc.

Description: MidAmerican-Cornbelt-Auburn WDS SA2331 to be effective 9/1/2012.

Filed Date: 7/31/12.

Accession Number: 20120731-5050.

Comments Due: 5 p.m. ET 8/21/12.

Docket Numbers: ER12-2363-000.

Applicants: Midwest Independent Transmission System Operator, Inc.

Description: MidAmerican-MEAN-Breda 1st Rev SA 2340 to be effective 9/1/2012.

Filed Date: 7/31/12.

Accession Number: 20120731-5051.

Comments Due: 5 p.m. ET 8/21/12.

Docket Numbers: ER12-2364-000.

Applicants: Midwest Independent Transmission System Operator, Inc.

Description: MidAmerican-MEAN-Waverly WDS 2nd Rev. SA2164 to be effective 9/1/2012.

Filed Date: 7/31/12.

Accession Number: 20120731-5052.

Comments Due: 5 p.m. ET 8/21/12.

Docket Numbers: ER12-2365-000.

Applicants: Midwest Independent Transmission System Operator, Inc.

Description: SA 2338 MidAm-MEAN WDS Denver to be effective 9/1/2012.

Filed Date: 7/31/12.

Accession Number: 20120731-5053.

Comments Due: 5 p.m. ET 8/21/12.

Docket Numbers: ER12-2366-000.

Applicants: Southwest Power Pool, Inc.

Description: Compliance Filing Docket Nos. ER09-659-002 and EL12-2 Attachment O Section VII to be effective 7/31/2012.

Filed Date: 7/31/12.

Accession Number: 20120731-5087.

Comments Due: 5 p.m. ET 8/21/12.

Docket Numbers: ER12-2367-000.

Applicants: Southern California Edison Company.

Description: Amendment to LGIA with North Sky River Energy, LLC., North Sky River Wind Proj. to be effective 8/1/2012.

Filed Date: 7/31/12.

Accession Number: 20120731-5099.

Comments Due: 5 p.m. ET 8/21/12.

Docket Numbers: ER12-2368-000.

Applicants: Denver City Energy Associates, LP.

Description: Denver City Energy Associates, LP submits tariff filing per 35.15: Tariff Cancelation to be effective 7/31/2012.

Filed Date: 7/31/12.

Accession Number: 20120731-5126.

Comments Due: 5 p.m. ET 8/21/12

.

Docket Numbers: ER12-2369-000.

Applicants: The Detroit Edison Company.

Description: The Detroit Edison Company submits tariff filing per 35.13(a)(2)(iii: Refile of Wyandotte Interconnection Agreement RS 44 to be effective 8/1/2012.

Filed Date: 7/31/12.

Accession Number: 20120731-5128.

Comments Due: 5 p.m. ET 8/21/12.

Docket Numbers: ER12-2370-000.

Applicants: FPL Energy Oliver Wind, LLC.

Description: FPL Energy Oliver Wind, LLC Notice of Cancellation of Market-Based Rate Tariff.

Filed Date: 7/31/12.

Accession Number: 20120731-5154.

Comments Due: 5 p.m. ET 8/21/12.

Take notice that the Commission received the following land acquisition reports:

Docket Numbers: LA12-2-000.

Applicants: Rockland Wind Farm LLC, Goshen Phase II LLC, Grays Ferry Cogeneration Partnership, MATEP, LP, MATEP, LLC, Trigen-St. Louis Energy Corp.

Description: Quarterly Land Acquisition Report of Ridgeline Energy LLC et al.

Filed Date: 7/31/12.

Accession Number: 20120731-5074.

Comments Due: 5 p.m. ET 8/21/12.

Docket Numbers: LA12-2-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC.

Description: Generation Site Report Second Quarter 2012 of Spring Canyon Energy LLC, et al.

Filed Date: 7/31/12.

Accession Number: 20120731-5092.

Comments Due: 5 p.m. ET 8/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2012.
Nathaniel J. Davis, Sr.,
Deputy Secretary.

[FR Doc. 2012-19751 Filed 8-10-12; 8:45 am]

BILLING CODE 6717-01-P